FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it has submitted to the Office of Management and Budget (OMB) a request for OMB review and approval of the information collection system described below pursuant to OMB's emergency processing procedures. The FDIC has requested OMB to approve the collection by October 11, 2002.

Type of Review: Emergency processing of a new information collection.

Title: Insured Deposit Survey.

OMB Number: 3064-new.

Annual Burden:

Estimated annual number of respondents: 20.

Estimated time per response: 30 minutes.

Average annual burden hours: 10 hours.

OMB Reviewer: Joseph F. Lackey, Jr., (202) 395-7316, Office of Management and Budget, Office of Information and Regulatory Affairs, Washington, DC 20503.

FDIC Contact: Thomas Nixon, Senior Attorney, Legal Division, Federal Deposit Insurance Corporation, 550 17th Street NW., Washington, DC 20429, (202) 898-8766.

Comments: Comments on this collection of information are welcome and should be submitted on or before October 11, 2002, to both the OMB reviewer and the FDIC contact listed above.

ADDRESSES: Information about this submission, including copies of the proposed collection of information, may be obtained by calling or writing the FDIC contact listed above. FAX number (202) 898-3838; Internet address: comments@fdic.gov.

SUPPLEMENTARY INFORMATION: The FDIC Board of Directors is required, semiannually, to set deposit insurance assessment premiums to be paid by insured financial institutions to ensure that the reserve ratio is maintained at the statutorily mandated Designated Reserve Ratio of 1.25 percent. The FDIC Board must next set these premiums in early November 2002. To do this effectively, and without burdening banks with unnecessary insurance premiums, the FDIC needs a timely and reliable measure of estimated insured deposits. The FDIC is able to obtain the necessary information from most banks through the September 30, 2002 “Call Report,” an OMB-approved information collection, in time to make its decision on premiums in early November. However, certain banks have the option of submitting their Call Report at a later date, so that their deposit data would not be available until after the FDIC Board has to make its decision. The FDIC is proposing a one-time, early November survey of no more than 20 banks requesting them to provide current estimates of the amounts to be reported in two items in the Call Report that they would be obligated to submit within two weeks of the survey.

Dated: September 20, 2002.
Federal Deposit Insurance Corporation.
Robert E. Feldman,
Executive Secretary.

[FR Doc. 02-24398 Filed 9-25-02; 8:45 am]

BILLING CODE 6714-01-P